INTERNATIONAL TRADE COMMISSION

[Investigation No. 731-TA-1314 (Review)]

Phosphor Copper from South Korea

Determination

On the basis of the record ¹ developed in the subject five-year review, the United States International Trade Commission (“Commission”) determines, pursuant to the Tariff Act of 1930 (“the Act”), that revocation of the antidumping duty order on phosphor copper from South Korea would be likely to lead to continuation or recurrence of material injury to an industry in the United States within a reasonably foreseeable time.

¹ The record is defined in § 207.2(f) of the Commission's Rules of Practice and Procedure (19 CFR 207.2(f)).

Background

The Commission instituted this review on March 1, 2022 (87 FR 11467) and determined on June 6, 2022 that it would conduct an expedited review (87 FR 57517, September 20, 2022).

The Commission made this determination pursuant to section 751(c) of the Act (19 U.S.C. 1675(c)). It completed and filed its determination in this review on October 19, 2022. The views of the Commission are contained in USITC Publication 5377 (October 2022), entitled Phosphor Copper from South Korea: Investigation No. 731-TA-1314 (Review).

By order of the Commission.
Issued: October 19, 2022.
Katherine Hiner,
Acting Secretary to the Commission.

[FR Doc. 2022-23103 Filed 10-24-22; 8:45 am]

BILLING CODE 7020-02-P